INTERNATIONAL TRADE COMMISSION

[Investigation Nos. 701-TA-499-500 and 731-TA-1215-1216, 1221-1223 (Review)]

Oil Country Tubular Goods from India, Korea, Turkey, Ukraine, and Vietnam

Determinations

On the basis of the record ¹ developed in the subject five-year reviews, the United States International Trade Commission (“Commission”) determines, pursuant to the Tariff Act of 1930 (“the Act”), that revocation of the countervailing duty orders on oil country tubular goods (OCTG) from India and Turkey and the antidumping duty orders on OCTG from India, Korea, Turkey, Ukraine, and Vietnam would be likely to lead to continuation or recurrence of material injury to an industry in the United States within a reasonably foreseeable time.

¹ The record is defined in § 207.2(f) of the Commission's Rules of Practice and Procedure (19 CFR 207.2(f)).

Background

The Commission instituted these reviews on June 3, 2019 (84 FR 25570), and determined on September 6, 2019, that it would full reviews (84 FR 50069, September 24, 2019). Notice of the scheduling of the Commission's reviews and of a public hearing to be held in connection therewith was given by posting copies of the notice in the Office of the Secretary, U.S. International Trade Commission, Washington, DC, and by publishing the notice in the Federal Register on January 21, 2020 (85 FR 3419). In light of the restrictions on access to the Commission building due to the COVID-19 pandemic, and in accordance with 19 U.S.C. 1677c(a)(1), the Commission conducted its hearing by video conference on May 21, 2020 and written witness testimony; all persons who requested the opportunity were permitted to participate.

The Commission made these determinations pursuant to section 751(c) of the Act (19 U.S.C. 1675(c)). It completed and filed its determinations in these reviews on July 29, 2020. The views of the Commission are contained in USITC Publication 5090 (July 2020), entitled Oil Country Tubular Goods from India, Korea, Turkey, Ukraine, and Vietnam: Investigation Nos. 701-TA-499-500 and 731-TA-1215-1216, 1221-1223 (Review).

By order of the Commission.
Issued: July 29, 2020.
Lisa Barton,
Secretary to the Commission.

[FR Doc. 2020-16826 Filed 7-31-20; 8:45 am]

BILLING CODE 7020-02-P